DEPARTMENT OF ENERGY

Federal Energy Regulatory Commission

Combined Notice of Filings

Take notice that the Commission has received the following Natural Gas Pipeline Rate and Refund Report filings:

Filings Instituting Proceedings

Docket Numbers: RP15-504-000.

Applicants: Golden Pass Pipeline LLC.

Description: Compliance filing per 154.203: Golden Pass Pipeline Annual Retainage Report for 2015 to be effective 2/26/2015.

Filed Date: 2/24/15.

Accession Number: 20150224-5032.

Comments Due: 5 p.m. ET 3/9/15.

Docket Numbers: RP15-505-000.

Applicants: Gulf South Pipeline Company, LP.

Description: Section 4(d) rate filing per 154.204: Neg Rate Agmt Filing (Southwest Energy 44054 Short term PAL) to be effective 2/21/2015.

Filed Date: 2/24/15.

Accession Number: 20150224-5033.

Comments Due: 5 p.m. ET 3/9/15.

Docket Numbers: RP15-506-000.

Applicants: Iroquois Gas Transmission System, L.P.

Description: Section 4(d) rate filing per 154.204: 02/24/15 Negotiated Rates—ConEdison Energy Inc. (HUB) 2275-89 to be effective 2/23/2015.

Filed Date: 2/24/15.

Accession Number: 20150224-5090.

Comments Due: 5 p.m. ET 3/9/15.

Docket Numbers: RP15-507-000.

Applicants: Iroquois Gas Transmission System, L.P.

Description: Section 4(d) rate filing per 154.204: 02/24/15 Negotiated Rates—Mercuria Energy Trading Gas LLC (HUB) 7540-89 to be effective 2/23/2015.

Filed Date: 2/24/15.

Accession Number: 20150224-5097.

Comments Due: 5 p.m. ET 3/9/15.

Docket Numbers: RP15-508-000.

Applicants: Rockies Express Pipeline LLC.

Description: Section 4(d) rate filing per 154.204: Neg Rate 2015-02-24 Encana to be effective 2/24/2015.

Filed Date: 2/24/15.

Accession Number: 20150224-5102.

Comments Due: 5 p.m. ET 3/9/15.

Docket Numbers: RP15-509-000.

Applicants: Kern River Gas Transmission Company.

Description: Section 4(d) rate filing per 154.204: 2015 Daggett Surcharges to be effective 4/1/2015.

Filed Date: 2/24/15.

Accession Number: 20150224-5195.

Comments Due: 5 p.m. ET 3/9/15.

Docket Numbers: RP15-510-000.

Applicants: Northern Natural Gas Company.

Description: Section 4(d) rate filing per 154.204: 20150224 Negotiated Rate to be effective 2/25/2015.

Filed Date: 2/24/15.

Accession Number: 20150224-5196.

Comments Due: 5 p.m. ET 3/9/15.

Docket Numbers: RP15-511-000.

Applicants: Guardian Pipeline, L.L.C.

Description: Section 4(d) rate filing per 154.204: Negotiated Rate PAL Agreement—Koch Energy Services, L.L.C. to be effective 2/25/2015.

Filed Date: 2/24/15.

Accession Number: 20150224-5221.

Comments Due: 5 p.m. ET 3/9/15.

Docket Numbers: RP15-512-000.

Applicants: Texas Eastern Transmission, LP.

Description: Section 4(d) rate filing per 154.204: Negotiated Rate—BP Energy 911147 to be effective 4/1/2015.

Filed Date: 2/25/15.

Accession Number: 20150225-5060.

Comments Due: 5 p.m. ET 3/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 25, 2015.
Nathaniel J. Davis, Sr.,
Deputy Secretary.

[FR Doc. 2015-04361 Filed 3-2-15; 8:45 am]

BILLING CODE 6717-01-P